DEPARTMENT OF HOMELAND SECURITY

Federal Emergency Management Agency

[Docket ID: FEMA-2013-0007; OMB No. 1660-0076]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use. This notice reflects changes to the collection since the publishing of the 60 day notice on March 12, 2013. Since the 60 day notice, FEMA has decided to use a different, more effective quarterly reporting collection tool to monitor Hazard Mitigation Grant Program (HMGP) grantee project activities and expenditure of funds, FEMA Form No. 009-0-111A. This will allow FEMA to more effectively better meet regulatory mandates. Previous quarterly reporting was covered by a different OMB ICR. FEMA estimates that use of this tool will change the total burden hours for this collection.

DATES: Comments must be submitted on or before July 29, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Hazard Mitigation Grant Program Application and Reporting.

Type of Information Collection: Revision of a currently approved information collection.

Form Titles and Numbers: Narratives and FEMA Form No. 009-0-111A.

Abstract: Grantees administer the Hazard Mitigation Grant Program, which is a post-disaster program that contributes funds toward the cost of hazard mitigation activities in order to reduce the risk of future damage, hardship, loss or suffering in any area affected by a major disaster. FEMA uses applications to collect information for determining whether to provide financial assistance in the form of grant awards and monitors grantee project activities and expenditure of funds through a new grantee quarterly reporting tool, FEMA Form No. 009-0-111A. This new instrument will enable FEMA to meet requirements set out in 44 CFR 206.438(c).

Affected Public: State, Local or Tribal Government.

Estimated Number of Respondents: 56.

Estimated Total Annual Burden Hours: 37,576.

Estimated Cost: There is no annual operation or maintenance cost associated with this collection.

Dated: June 18, 2013.
Charlene D. Myrthil,
Director, Records Management Division, Mission Support Bureau, Federal Emergency Management Agency, Department of Homeland Security.

[FR Doc. 2013-15350 Filed 6-26-13; 8:45 am]

BILLING CODE 9110-13-P